POSTAL SERVICE

Mail Classification Schedule Changes Concerning Assignment of Country Groups

AGENCY: Postal Service.

ACTION: Notice; assignment of country groups.

SUMMARY: The Governors of the Postal Service have assigned country price groups within the Mail Classification Schedule to provide Priority Mail Express International service to Cuba effective August 28, 2016.

DATES: Effective date: June 21, 2016.

FOR FURTHER INFORMATION CONTACT: Jeffrey A. Rackow, 202-268-6687.

SUPPLEMENTARY INFORMATION: The Governors' Decision in connection with the assignment of country groups is reprinted below.

Stanley F. Mires,
Attorney, Federal Compliance.

Decision of the Governors of the United States Postal Service Concerning Assignment of Country Groups in the Mail Classification Schedule (Governors' Decision No. 16-4)

June 21, 2016

Statement of Explanation and Justification

The Postal Service and the postal operator of Cuba intend to exchange expedited shipments known as EMS, which is branded as Priority Mail Express International (PMEI) service for U.S. origin shipments. Pursuant to section 404(b) and Chapter 36 of Title 39, United States Code, the Governors hereby assign country price groups in the Mail Classification Schedule for PMEI destined to Cuba.

Order

The classification changes as set forth herein shall be effective on August 28, 2016. I also direct Management to file with the Postal Regulatory Commission appropriate notice of this change.

By The Governors:

James H. Bilbray

Chairman, Temporary Emergency Committee of the Board of Governors

Attachment to Governors' Decision No. 16-4

Mail Classification Schedule

* * * * *

Part D

Country Price Lists For International Mail

* * * * *

Attachment to Governors' Decision No. 16-4

4000 Country Price Lists For International Mail

Country | Market dominant SPFCMI ¹ | Competitive: FCPIS ² | Competitive: International Expedited Services: GXG ³ | Competitive: International Expedited Services: PMEI ⁴ | Competitive: International Expedited Services: PMEI flat rate envelope ⁴ | Competitive: PMI ⁵ | Competitive: PMI flat rate envelopes and boxes ⁵ | Competitive: IPA & ISAL ⁶
* * * * * * *
Cuba | 9 | 9 | - | 9 | 8 | 9 | 8 | 17
* * * * * * *

[FR Doc. 2016-18173 Filed 7-29-16; 8:45 am]

BILLING CODE 7710-12-P